DEPARTMENT OF COMMERCE

National Oceanic and Atmospheric Administration

50 CFR Part 660

Fisheries Off West Coast States

CFR Correction

In title 50 of the Code of Federal Regulations, part 660 to end, revised as of October 1, 2007, on page 194, in part 660, reinstate § 660.510 to read as follows:

§ 660.510 Fishing seasons.

All seasons will begin at 0001 hours and terminate at 2400 hours local time. Fishing seasons for the following CPS species are:

(a) Pacific sardine. January 1 to December 31, or until closed under § 660.509.

(b) Pacific mackerel. July 1 to June 30, or until closed under § 660.509.

[FR Doc. E8-10062 Filed 5-6-08; 8:45 am]

BILLING CODE 1505-01-D